Title 3—

The President

Presidential Determination No. 2003-13 of January 29, 2003

Presidential Determination Pursuant to Section 2(c)(1) of the Migration and Refugee Assistance Act of 1962, as Amended

Memorandum for the Secretary of State

Pursuant to section (2)(c)(1) of the Migration and Refugee Assistance Act of 1962, as amended, 22 U.S.C. 2601(c)(1), I hereby determine that it is important to the national interest that up to $15 million be made available from the U.S. Emergency Refugee and Migration Assistance Fund to meet unexpected urgent refugee and migration needs that would be anticipated in the event of a future humanitarian emergency in the Middle East, to include contingency planning for such needs. Such an emergency may arise if it becomes necessary for the United States and other nations to use military force to disarm the Iraqi regime of its weapons of mass destruction. These funds may be used, as appropriate, to provide contributions to international, governmental, and nongovernmental organizations, as well as for administrative expenses to manage contingency planning by the Department of State's Bureau of Population, Refugees, and Migration.

You are authorized and directed to inform the appropriate committees of the Congress of this determination and the obligation of funds under this authority, and to arrange for the publication of this memorandum in the Federal Register.

B

THE WHITE HOUSE,

Washington, January 29, 2003.

[FR Doc. 03-2959

Filed 2-4-03; 8:45 am]

Billing code 4710-10-P